DEPARTMENT OF THE INTERIOR

Bureau of Reclamation

Agency Information Collection Activities; Proposed Revisions to a Currently Approved Information Collection; Comment Request

AGENCY: Bureau of Reclamation, Interior.

ACTION: Notice of renewal of a currently approved collection (OMB No. 1006-0023).

SUMMARY: In accordance with the Paperwork Reduction Act of 1995 (44 U.S.C. 3501 et seq.), the Bureau of Reclamation (we, our, or us) intends to submit a request for renewal (with revisions) of an existing approved information collection to the Office of Management and Budget (OMB): Limited Recipient Identification Sheet, Trust Information Sheet for Acreage Limitation, 43 CFR part 426, OMB Control Number: 1006-0023. As a result of Reclamation's activities to fully implement the acreage limitation provisions applicable to public entities (43 CFR 426.10 and the Act of July 7, 1970, Public Law 91-310), a new “Public Entity Information Sheet” (Form 7-2565) has been developed for approval as part of this information collection. We request your comments on the proposed RRA forms and specific aspects of the information collection.

DATES: Your written comments must be received on or before April 4, 2005.

ADDRESSES: You may send written comments to the Bureau of Reclamation, Attention: D-5300, PO Box 25007, Denver, CO 80225-0007. You may request copies of the proposed forms by writing to the above address or by contacting Stephanie McPhee at: (303) 445-2897.

FOR FURTHER INFORMATION CONTACT: Stephanie McPhee at: (303) 445-2897.

SUPPLEMENTARY INFORMATION: Title: Limited Recipient Identification Sheet, Trust Information Sheet, Public Entity Information Sheet for Acreage Limitation, 43 CFR part 426 and the Act of July 7, 1970, Public Law 91-310.

Abstract: Identification of limited recipients—Some entities that receive Reclamation irrigation water may believe that they are under the RRA forms submittal threshold and consequently, may not submit the appropriate RRA form(s). However, some of these entities may in fact have a different RRA forms submittal threshold than what they believe it to be due to the number of natural persons benefiting from each entity and the location of the land held by each entity. In addition, some entities that are exempt from the requirement to submit RRA forms due to the size of their landholdings (directly and indirectly owned and leased land) may in fact be receiving Reclamation irrigation water for which the full-cost rate must be paid because the start of Reclamation irrigation water deliveries occurred after October 1, 1981 (43 CFR 426.6(b)(2)). The information obtained through completion of the Limited Recipient Identification Sheet allows us to establish entities' compliance with Federal reclamation law. The Limited Recipient Identification Sheet is disbursed at our discretion. The proposed revisions to the Limited Recipient Identification Sheet will be included starting in the 2006 water year, and are designed to facilitate ease of completion.

Trust review—We are required to review and approve all trusts (43 CFR 426.7(b)(2)) in order to ensure trusts meet the regulatory criteria specified in 43 CFR 426.7. Land held in trust generally will be attributed to the beneficiaries of the trust rather than the trustee if the criteria are met. When we become aware of trusts with a relatively small landholding (40 acres or less), we may extend to those trusts the option to complete and submit for our review the Trust Information Sheet instead of actual trust documents. If we find nothing on the completed Trust Information Sheet that would warrant the further investigation of a particular trust, that trustee will not be burdened with submitting trust documents to us for in-depth review. The Trust Information Sheet is disbursed at our discretion. The proposed revisions to the Trust Information Sheet will be included starting in the 2006 water year, and are designed to facilitate ease of completion.

Acreage limitation provisions applicable to public entities—Land farmed by a public entity can be considered exempt from the application of the acreage limitation provisions provided the public entity meets certain criteria pertaining to the revenue generated through the entity's farming activities (43 CFR 426.10 and the Act of July 7, 1970, Public Law 91-310). We are required to ascertain whether or not public entities that receive Reclamation irrigation water meet such revenue criteria regardless of how much land the public entities hold (directly or indirectly own or lease) (43 CFR 426.10(a)). In order to minimize the burden on public entities, standard RRA forms are submitted by a public entity only when the public entity holds more than 40 acres, which makes it difficult to apply the revenue criteria as required to those public entities that hold less than 40 acres. A new “Public Entity Information Sheet” (Form 7-2565) has been developed for approval as part of this information collection. The information obtained through completion of Form 7-2565 allows us to establish compliance with Federal reclamation law for those public entities that hold less than 40 acres and thus do not submit a standard RRA form because they are below the RRA forms submittal threshold. In addition, for those public entities that do not meet the exemption criteria, we must determine the proper rate to charge for Reclamation irrigation water deliveries. There is anticipated to be a very minimal increase in burden hours resulting from the addition of this form because of the very limited type of landholders that can use this form (i.e., only those public entities that hold less than 40 acres). The Public Entity Information Sheet is disbursed at our discretion and will be effective starting in the 2006 water year. Because of the addition of this proposed new form to this information collection, we also propose that the title of this information collection be changed to “Forms for Certain Landholders That Hold Less Than 40 Acres for Acreage Limitation.” This change in title will allow us to capture the purpose of the forms in this information collection without listing lengthy form names.

Frequency: Generally, these forms will be submitted once per identified entity, trust, or public entity. Each year, we expect new responses in accordance with the following numbers.

Respondents: Entity landholders, trusts, and public entities identified by Reclamation that are subject to the acreage limitation provisions of Federal reclamation law.

Estimated Total Number of Respondents: 425.

Estimated Number of Responses per Respondent: 1.0.

Estimated Total Number of Annual Responses: 425.

Estimated Total Annual Burden on Responses: 52 hours.

Estimate of Burden for Each Form:

Form number | Burden estimate per form (in minutes) | Number of respondents | Annual number of responses | Annual burden on respondents (in hours)
Limited Recipient Identification Sheet | 5 | 175 | 175 | 15
Trust Information Sheet | 5 | 150 | 150 | 12
Public Entity Information Sheet | 15 | 100 | 100 | 25

Comments

Comments are invited on:

(a) Whether the proposed collection of information is necessary for the proper performance of our functions, including whether the information will have practical use;

(b) The accuracy of our burden estimate for the proposed new collection of information;

(c) Ways to enhance the quality, usefulness, and clarity of the information to be collected; and

(d) Ways to minimize the burden of the collection of information on respondents, including the use of automated collection techniques or other forms of information technology.

We will summarize all comments received regarding this notice. We will publish that summary in the Federal Register when the information collection request is submitted to OMB for review and approval.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 14, 2005.
Roseann Gonzales,
Director, Office of Program and Policy Services, Denver Office.

[FR Doc. 05-1790 Filed 1-31-05; 8:45 am]

BILLING CODE 4310-MN-P